DEPARTMENT OF HEALTH AND HUMAN SERVICES

Administration for Children and Families

Tribal Consultation Meetings

AGENCY: Office of Head Start (OHS), Administration for Children and Families, HHS.

ACTION: Notice of meetings.

SUMMARY: Pursuant to the Improving Head Start for School Readiness Act of 2007, Public Law 110-134, notice is hereby given of three 1-day Tribal Consultation Sessions to be held between the Department of Health and Human Services, Administration for Children and Families, OHS leadership and the leadership of Tribal Governments operating Head Start (including Early Head Start) programs. The purpose of these Consultation Sessions is to discuss ways to better meet the needs of American Indian and Alaska Native children and their families, taking into consideration funding allocations, distribution formulas, and other issues affecting the delivery of Head Start services in their geographic locations [42 U.S.C. 9835, Section 640(l)(4)].

DATES:

June 16, 2015, from 1:00 p.m. to 5:00 p.m.;

July 30, 2015, from 1:00 p.m. to 5:00 p.m.;

August 17, 2015, from 1:00 p.m. to 5:00 p.m.

Locations:

• June 16, 2015—National Indian Head Start Directors Association, Hyatt Regency, 1209 L Street, Sacramento, California 95814

• July 30, 2015—Oklahoma Indian Head Start Coalition Conference, DoubleTree at Warren Place, 6110 South Yale Avenue, Tulsa, Oklahoma 74136

• August 17, 2015—Northwest Indian Head Start Association Conference, Holiday Inn Grand Montana, 5500 Midland Road, Billings, Montana 59101

FOR FURTHER INFORMATION CONTACT: Robert Bialas, Regional Program Manager, Region XI, Office of Head Start, email Robert.Bialas@acf.hhs.gov or phone (202) 205-9497. Additional information and online meeting registration is available at http://eclkc.ohs.acf.hhs.gov/hslc/hs/calendar/tc2015.

SUPPLEMENTARY INFORMATION: The Department of Health and Human Services (HHS) announces OHS Tribal Consultations for leaders of Tribal Governments operating Head Start and Early Head Start programs.

The agenda for the scheduled OHS Tribal Consultations in Sacramento, California, Tulsa, Oklahoma, and Billings, Montana, will be organized around the statutory purposes of Head Start Tribal Consultations related to meeting the needs of American Indian/Alaska Native children and families, taking into consideration funding allocations, distribution formulas, and other issues affecting the delivery of Head Start services in their geographic locations. In addition, OHS will share actions taken and in progress to address the issues and concerns raised in 2014 OHS Tribal Consultations.

The Consultation Sessions will be conducted with elected or appointed leaders of Tribal Governments and their designated representatives [42 U.S.C. 9835, Section 640(l)(4)(A)]. Designees must have a letter from the Tribal Government authorizing them to represent the tribe prior to the Consultation Sessions. Other representatives of tribal organizations and Native nonprofit organizations are welcome to attend as observers.

A detailed report of the Consultation Sessions will be prepared and made available within 45 days of the Consultation Sessions to all Tribal Governments receiving funds for Head Start and Early Head Start programs. Tribes wishing to submit written testimony for the report should send testimony to Robert Bialas at Robert.Bialas@acf.hhs.gov either prior to the Consultation Sessions or within 30 days after the meeting.

OHS will summarize oral testimony and comments from each Consultation Session in the report without attribution, along with topics of concern and recommendations. OHS has sent hotel and logistical information for the California, Oklahoma, and Montana Consultation Sessions to tribal leaders via email and posted information on the Early Childhood Learning and Knowledge Center Web site at http://eclkc.ohs.acf.hhs.gov/hslc/hs/calendar/tc2015.

Dated: March 26, 2015.
Ann Linehan,
Acting Director, Office of Head Start.

[FR Doc. 2015-07958 Filed 4-6-15; 8:45 am]

BILLING CODE CODE 4184-40-P